DEPARTMENT OF ENERGY

Federal Energy Regulatory Commission

[Project No. P-7387-019]

Erie Boulevard Hydropower, L.P.; Notice of Settlement Agreement and Soliciting Comments

December 2, 2003.

Take notice that the following settlement agreement has been filed with the Commission and is available for public inspection.

a. Type of Application: Settlement Agreement.

b. Project No.: P-7387-019.

c. Date filed: October 20, 2003.

d. Applicant: Erie Boulevard Hydropower, L.P.

e. Name of Project: Piercefield Hydroelectric Project.

f. Location: On the Raquette River, in St. Lawrence and Franklin Counties, New York. The project does not occupy federal lands.

g. Filed Pursuant to: Rule 602 of the Commission's Rules of Practice and Procedure, 18 CFR 385.602.

h. Applicant Contact: Mr. Jerry L. Sabattis, P.E., Licensing Coordinator, Erie Boulevard Hydropower, L.P., 225 Greenfield Parkway, Liverpool, New York, 13088, telephone (315) 413-2787 and Mr. Samuel S. Hirschey, P.E., Manager, Licensing, Compliance, and Project Properties, 225 Greenfield Parkway, Liverpool, New York, 13088, telephone (315) 413-2790.

i. FERC Contact: Janet Hutzel, janet.hutzel@ferc.gov (202) 502-8675 or Kim Carter, kim.carter@ferc.gov (202) 502-6486.

j. Deadline for filing comments: The deadline for filing comments on the Settlement Agreement is 20 days from the date of this notice. The deadline for filing reply comments is 30 days from the date of this notice.

All documents (original and eight copies) should be filed with: Magalie R. Salas, Secretary, Federal Energy Regulatory Commission, 888 First Street, NE, Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Erie Boulevard Hydropower, L.P. (Erie Boulevard) filed the Piercefield Project Settlement Agreement on behalf of itself and the Adirondack Council, Adirondack Mountain Club, Adirondack Park Agency, American Rivers, American Whitewater, New York Rivers United, New York State Conservation Council, New York State Department of Environmental Conservation, St. Lawrence County, Town of Altamont, Town of Piercefield, U.S. Fish and Wildlife Service, and the National Park Service. The Settlement Agreement is intended to resolve, among the signatories, all issues related to Erie Boulevard's pending Application for New License for the Piercefield Hydroelectric Project, including daily and seasonal impoundment fluctuations, fish movement and protection, baseflow, and recreation. Erie Boulevard requests that the Commission accept and incorporate, into any new license issued for the project, the protection, mitigation, and enhancement measures stated in Section 3.0 of the Settlement Agreement.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

You may also register online at http://www.ferc.gov/docs-filing/esubscription.asp to be notified via e-mail of new filings and issuances related to this or other pending projects. For assistance, contact FERC Online Support.

Magalie R. Salas,
Secretary.

[FR Doc. E3-00463 Filed 12-5-03; 8:45 am]

BILLING CODE 6717-01-P